DEPARTMENT OF EDUCATION

Applications for New Awards; National Institute on Disability and Rehabilitation Research—Disability and Rehabilitation Research Projects and Centers Program—Advanced Rehabilitation Research and Training Program—Advanced Rehabilitation Research Policy Fellowship; Correction

Catalog of Federal Domestic Assistance (CFDA) Number: 84.133P-5.

AGENCY: Office of Special Education and Rehabilitative Services, Department of Education.

ACTION: Notice; correction.

SUMMARY: On July 21, 2014, we published in the Federal Register (79 FR 42403) a notice inviting applications for new awards for fiscal year (FY) 2014 for the Advanced Rehabilitation Research and Training (ARRT) Program—Advanced Rehabilitation Research Policy Fellowship. This notice corrects the applicant eligibility information.

DATES: Effective August 14, 2014.

SUPPLEMENTARY INFORMATION:

Correction

In the Federal Register of July 21, 2014 (79 FR 42403), on page 42403, in the middle column under the heading III. Eligibility Information, we correct the first paragraph to read:

1. Eligible Applicants: Institutions of higher education (IHEs).

Program Authority: 29 U.S.C. 762(g) and 764(b)(2)(A).

FOR FURTHER INFORMATION CONTACT: Marlene Spencer, U.S. Department of Education, 400 Maryland Avenue SW., Room 5133, PCP, Washington, DC 20202-2700. Telephone: (202) 245-7532 or by email: marlene.spencer@ed.gov. If you use a telecommunications device for the deaf or a text telephone, call the Federal Relay Service, toll free, at 1-800-877-8339.

Accessible Format: Individuals with disabilities can obtain this document and a copy of the application package in an accessible format (e.g., braille, large print, audiotape, or compact disc) on request to the program contact person listed under FOR FURTHER INFORMATION CONTACT of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 11, 2014.
Michael K. Yudin,
Acting Assistant Secretary for Special Education and Rehabilitative Services.

[FR Doc. 2014-19287 Filed 8-13-14; 8:45 am]

BILLING CODE 4000-01-P